FEDERAL RESERVE SYSTEM

Agency Information Collection Activities: Notice; Correction

AGENCY: Board of Governors of the Federal Reserve System.

SUMMARY: On July 2, 2015, the Board published a notice of final approval (80 FR 38201) of proposed information collections by the Board of Governors of the Federal Reserve System (Board) under OMB delegated authority. The estimated annual reporting hours for the FR Y-9C (non-Advanced Approaches holding companies) and FR Y-9C (Advanced Approaches holding companies) were understated. Accordingly, this notice corrects the July 2, 2015 notice with current estimated burden hours.

FOR FURTHER INFORMATION CONTACT: Federal Reserve Board Clearance Officer—Nuha Elmaghrabi—Office of the Chief Data Officer, Board of Governors of the Federal Reserve System, Washington, DC 20551, (202) 452-3829. Telecommunications Device for the Deaf (TDD) users may contact (202) 263-4869, Board of Governors of the Federal Reserve System, Washington, DC 20551.

SUPPLEMENTARY INFORMATION: The following information corrects the estimated annual reporting hours and estimated average hours per response for the FR Y-9C (non-Advanced Approaches holding companies) and FR Y-9C (Advanced Approaches holding companies).

Estimated Annual Reporting Hours

FR Y-9C (non-Advanced Approaches holding companies)—130,964 hours;

FR Y-9C (Advanced Approaches holding companies)—2,500 hours.

Estimated Average Hours per Response

FR Y-9C (non-Advanced Approaches holding companies)—50.84 hours;

FR Y-9C (Advanced Approaches holding companies)—52.09 hours.

Board of Governors of the Federal Reserve System, July 23, 2015.
Robert deV. Frierson,
Secretary of the Board.

[FR Doc. 2015-18572 Filed 8-4-15; 8:45 am]

BILLING CODE 6210-01-M